DEPARTMENT OF HEALTH AND HUMAN SERVICES

Centers for Disease Control and Prevention

[Program Announcement 01038]

Cooperative Agreement for 2001 National Breast and Cervical Cancer Early Detection Program; Notice of Availability of Funds; Amendment

A notice announcing the availability of Fiscal Year 2001 funds to fund a cooperative agreement program for a National Breast and Cervical Cancer Early Detection Program was published in the Federal Register on May 17, 2001, [Vol 66, Number 96, Pages 27505-27511]. The notice is amended as follows:

On page 27505, second column, under section B. Eligible Applicants, the first paragraph, second line, insert “and territories (including the Federated States of Micronesia and the Republic of the Marshall Islands) between the words “States” and “or”.

On page 27505, second column, under section B. Eligible Applicants, the first paragraph, third line, insert “or instrumentalities” between the words “agents,” and “including”.

On page 27505, second column, under section B. Eligible Applicants, the first paragraph, line nine, insert “(including Indian Tribes, Tribal organizations, Alaska Natives and Urban Indian organizations and inter-tribal consortia, hereafter referred to as Tribes). An inter-tribal consortium or American Indian/Alaskan Native (AI/AN) organization is only eligible for funding if its primary purpose for incorporation is to improve AI/AN health, and it is representative of the Tribes, Alaska Native villages, or Urban Indian communities in which it is located. Tribes are encouraged to collaborate with other Tribes to expand the potential screening population.” after the words “Tribal government”

On page 27507, third column, under section F. Program Requirements, Recipient Activities, delete item 1.c.

Dated: May 22, 2001.
Henry S. Cassell III,
Acting Director, Procurement and Grants Office, Centers for Disease Control and Prevention (CDC).

[FR Doc. 01-13497 Filed 5-29-01; 8:45 am]

BILLING CODE 4163-18-M